FEDERAL COMMUNICATIONS COMMISSION

47 CFR Part 73

[DA 02-2288, MB Docket No. 02-142, RM-10436]

Digital Television Broadcast Service; Galveston, TX

AGENCY: Federal Communications Commission.

ACTION: Final rule.

SUMMARY: The Commission, at the request of Telemundo of Galveston-Houston License Corporation, licensee of station KTMD-TV, NTSC channel 49 and permittee of DTV station KTMD-DT, DTV channel 47, Galveston, Texas, substitutes TV channel 48 for TV channel 47; and DTV channel 48c for DTV channel 47 at Galveston, Texas. See 67 FR 41363, June 18, 2002. TV channel 47 can be allotted to Galveston with a zero offset at coordinates 29-30-24 N. and 94-30-48 W. DTV channel 48c can be allotted to Galveston in compliance with the principle community coverage requirements of Section 73.625(a) at reference coordinates 29-34-15 N. and 95-30-37 W. with a power of 1000, HAAT of 599 meters and with a DTV service population of 3899 thousand. With this action, this proceeding is terminated.

DATES: Effective November 7, 2002.

FOR FURTHER INFORMATION CONTACT: Pam Blumenthal, Media Bureau, (202) 418-1600.

SUPPLEMENTARY INFORMATION: This is a synopsis of the Commission's Report and Order, MB Docket No. 02-142, adopted September 16, 2002, and released September 23, 2002. The full text of this document is available for public inspection and copying during regular business hours in the FCC Reference Information Center, Portals II, 445 12th Street, SW., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Digital television broadcasting, Television.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Texas, is amended by removing TV channel 48 and adding TV channel 47 at Galveston.

§ 73.622 [Amended]

3. Section 73.622(b), the Table of Digital Television Allotments under Texas, is amended by removing DTV channel 47 and adding DTV channel 48c at Galveston.

Federal Communications Commission.
Barbara A. Kreisman,
Chief, Video Division, Media Bureau.

[FR Doc. 02-25353 Filed 10-4-02; 8:45 am]

BILLING CODE 6712-01-P